DEFENSE NUCLEAR FACILITIES SAFETY BOARD

Sunshine Act Meetings

TIME AND DATE: 1:00 p.m.-4:00 p.m., December 12, 2019.

PLACE: Defense Nuclear Facilities Safety Board, 625 Indiana Avenue NW, Room 7019, Washington, DC 20004.

STATUS: Open.

MATTERS TO BE CONSIDERED: In this open meeting, representatives of the Department of Energy and the National Nuclear Security Administration will brief the Board on the status of the Department's Implementation Plan for Board Recommendation 2019-1, Uncontrolled Hazard Scenarios and 10 CFR 830 Implementation at the Pantex Plant, discuss Board concerns with the Implementation Plan, and discuss additional actions taken to improve the Pantex Plant safety basis. More information, including an agenda for the meeting, can be found at www.dnfsb.gov.

CONTACT PERSON FOR MORE INFORMATION: Glenn Sklar, General Manager, Defense Nuclear Facilities Safety Board, 625 Indiana Avenue NW, Suite 700, Washington, DC 20004-2901, (800) 788-4016. This is a toll-free number.

Dated: October 24, 2019.
Bruce Hamilton,
Chairman.

[FR Doc. 2019-23603 Filed 10-24-19; 4:15 pm]

BILLING CODE 3670-01-P